DEPARTMENT OF HOMELAND SECURITY

Federal Emergency Management Agency

44 CFR Part 67

Final Flood Elevation Determinations

AGENCY: Federal Emergency Management Agency, Emergency Preparedness and Response Directorate, Department of Homeland Security.

ACTION: Final rule.

SUMMARY: Base (1% annual-chance) Flood Elevations and modified Base Flood Elevations (BFEs) are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final base flood elevations for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the BFEs and modified BFEs for each community listed. These modified elevations have been published in newspapers of local circulation and ninety (90) days have elapsed since that publication. The Mitigation Division Director of the Emergency Preparedness and Response Directorate has resolved any appeals resulting from this notification.

This final rule is issued in accordance with section 110 of the Flood Disaster Protection Act of 1973, 42 U.S.C. 4105, and 44 CFR part 67.

The Federal Emergency Management Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because modified base flood elevations are required by the Flood Disaster Protection Act of 1973, 42 U.S.C. 4105, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 67

Administrative practice and procedure, Flood insurance, Reporting and recordkeeping requirements.

Accordingly, 44 CFR part 67 is amended to read as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location of referenced elevation | ◆Elevation in feet (NAVD) modified | Communities affected
Alexander Creek:
Approximately 8,025 feet upstream of Ward Road | ◆942 | FEMA Docket No. P7661 Cass County (Unincorporated Areas), City of Raymore.
Approximately 5,600 feet upstream of Prairie Road | ◆1,004
East Branch South Grand River:
Approximately 9,900 feet upstream of confluence of Wolf Creek | ◆886 | Cass County (Unincorporated Areas), City of Peculiar.
Approximately 510 feet upstream of Kendall Road | ◆954 |
East Branch of West Fork East Creek:
At confluence with West Fork East Creek | ◆974 | FEMA Docket No. P7661, Cass County (Unincorporated Areas), City of Belton.
Approximately 3,050 feet upstream of Confluence with West Fork East Creek | ◆990 |
East Creek Tributary:
Approximately 990 feet downstream of Pickering Road | ◆918 | Cass County (Unincorporated Areas), City of Raymore.
Approximately 10,000 feet upstream of Confluence of North Fork East Creek Tributary | ◆1,000 |
East Fork of East Tributary of East Branch South Grand River:
At confluence with East Tributary of East Branch South Grand River | ◆937 | Cass County (Unincorporated Areas).
Approximately 3,250 feet upstream of 200th Street | ◆1,007 |
East Tributary of East Branch South Grand River:
At confluence with East Branch South Grand River | ◆889 | Cass County (Unincorporated Areas).
Approximately 2,920 feet upstream of Prairie Road | ◆993 |
East Tributary of Lumpkins Fork:
Approximately 4,770 feet downstream of North Madison Street | ◆954 | City of Raymore.
Approximately 40 feet upstream of 155th Street | ◆999 |
East Tributary of Massey Creek:
Approximately 3,225 feet downstream of Missouri Highway D | ◆944 | FEMA Docket No. P7661, Cass County (Unincorporated Areas).
Approximately 85 feet upstream of Cedar Road | ◆997 |
Lower East Fork of East Creek Tributary:
At confluence with East Creek Tributary | ◆931 | Cass County (Unincorporated Areas), City of Raymore.
Approximately 12,800 feet upstream of U.S. Highway 71 | ◆987 |
Lower East Tributary of Mill Creek:
At confluence with Mill Creek | ◆885 | Cass County (Unincorporated Areas).
Approximately 8,120 feet upstream of confluence with Mill Creek | ◆937 |
Lumpkins Fork:
At 155th Street | ◆945 | Cass County (Unincorporated Areas).
Approximately 70 feet upstream of North Madison Street | ◆979 |
Massey Creek:
Approximately 5,070 feet downstream of 223rd Street | ◆904 | Cass County (Unincorporated Areas).
At State Line Road | ◆969 |
Middle East Tributary of Mill Creek:
Approximately 3,950 feet upstream of Confluence with Mill Creek | ◆912 | Cass County (Unincorporated Areas).
Middle East Tributary of Mill Creek:
Approximately 6,320 feet upstream of confluence with Mill Creek | ◆940 | FEMA Docket No. P7661, Cass County (Unincorporated Areas).
Mill Creek:
At County Boundary | ◆871 | Cass County (Unincorporated Areas).
Approximately 95 feet downstream of 187th Street | ◆1,045 |
North Branch of Upper East Fork of East Creek Tributary:
Approximately 1,700 feet downstream of Hubach Hill Road | ◆976 | Cass County (Unincorporated Areas).
Approximately 25 feet upstream of Hubach Hill Road | ◆986 |
North Fork of East Creek Tributary:
At confluence with East Creek Tributary | ◆953 | Cass County (Unincorporated Areas).
Approximately 11,000 feet upstream of confluence with East Creek Tributary | ◆990 |
North Tributary of Wolf Creek:
Approximately 410 feet downstream of East 233rd Street | ◆927 | Cass County (Unincorporated Areas), City of Peculiar.
Approximately 40 feet upstream of East 227th Street | ◆954 |
Poney Creek:
Approximately 4,925 feet downstream of Bennett Road | ◆831 | Cass County (Unincorporated Areas), City of Freeman.
Poney Creek:
Approximately 7,550 feet upstream of Poney Creek Road | ◆849 | FEMA Docket No. P7661, Cass County (Unincorporated Areas), City of Freeman.
Silver Lake: | ◆1,029 | City of Raymore.
South Grand River:
Approximately 5,160 feet downstream of State Highway 2 | ◆829 | Cass County (Unincorporated Areas).
Approximately 765 feet upstream of Lake Annette Road | ◆850 |
Tributary of Alexander Creek:
Approximately 1,500 feet downstream of State Highway 58 | ◆988 | Cass County (Unincorporated Areas), City of Raymore.
Approximately 85 feet upstream of State Highway 58 | ◆996 |
Upper East Fork of East Creek Tributary:
Approximately 2,685 feet downstream of Good Ranch Road | ◆947 | Cass County (Unincorporated Areas), City of Raymore.
Approximately 50 feet upstream of Hubach Hill Road | ◆993 |
Upper East Tributary of Mill Creek:
At Highland Ridge Drive | ◆933 | Cass County (Unincorporated Areas).
Approximately 5,800 feet upstream of Highland Ridge Drive | ◆988 |
West Tributary of East Branch South Grand River:
Approximately 2,095 feet downstream of East 223rd Street | ◆896 | FEMA Docket No. P7661, Cass County (Unincorporated Areas).
Approximately 75 feet upstream of East 223rd Street | ◆915 |
West Tributary of Lumpkins Fork:
At 155th Street | ◆946 | Cass County (Unincorporated Areas).
Approximately 1,065 feet upstream of 155th Street | ◆998 |
Wolf Creek:
Approximately 7,100 feet upstream of Confluence with East Branch South Grand River | ◆889 | Cass County (Unincorporated Areas), City of Peculiar.
Approximately 1,170 feet upstream of 233rd Street | ◆946 |
ADDRESSES:
Unincorporated Areas of Cass County, Missouri:
Maps are available for inspection at 102 East Wall Street, Harrisonville, Missouri.
City of Belton, Cass County, Missouri:
Maps are available for inspection at City Hall, 506 Main Street, Belton, Missouri.
City of Freeman, Cass County, Missouri:
Maps are available for inspection at City Hall, 105 East Main Street, Freeman, Missouri.
City of Peculiar, Cass County, Missouri:
Maps are available for inspection at City Hall, 600 Schug Avenue, Peculiar, Missouri.
City of Raymore, Cass County, Missouri:
Maps are available for inspection at City Hall, 104 North Madison Street, Raymore, Missouri.

Source of flooding and location of referenced elevation | *Elevation in feet (NGVD) modified | Communities affected
Cottonwood Creek:
Just upstream of SE 14th Street | *467 | FEMA Docket No. P7607, City of Dallas, City of Grand Prairie.
Approximately 700 feet upstream of Great Southwest Parkway | *531 |
Duck Creek:
Approximately 600 feet downstream of Collins Road | *458 | City of Dallas, City of Garland, City of Mesquite, Town of Sunnyvale, Dallas County (Unincorporated Areas).
Just downstream of Beltline Road | *592 |
South Fork Cottonwood Creek:
Approximately 150 feet downstream of Carrier Parkway | *486 | City of Garland.
Just downstream of Great Southwest Parkway | *547 |
Stream 2C2:
At the mouth of Stream 2C2 | *494 | City of Grand Prairie.
Apporximately 630 feet upstream of Glenbrook Drive | *495 |
Stream 8D1:
At the mouth of Stream 8D1 | *467 | City of Dallas, City of Grand Prairie.
Approximatley 50 feet downstream of Belt Line Road | *489 |
Stream 8D3:
Approximately 300 feet downstream of Southeast 4th Street | *474 | FEMA Docket No. P7607, City of Grand Prairie.
Approximately 75 feet downstream of South Center Street | *488 |
Stream 8D6:
At the mouth of Stream 8D6 | *505 | City of Grand Prairie.
Approximately 2,350 feet upstream of Arkansas Lane | *544 |
Stream 8D71
Approximately 2,000 feet downstream of Sherman Street | *496 | City of Grand Prairie.
Approximately 50 feet downstream of Sherman Street | *512 |
ADDRESSES:
Unincorporated Areas of Dallas County, Texas:
Maps are available for inspection at the Administration Building, 411 Elm Street, 4th Floor, Dallas, Texas.
City of Dallas, Dallas County, Texas:
Maps are available for inspection at 320 East Jefferson Boulevard, Dallas, Texas.
City of Garland, Dallas County, Texas:
Maps are available for inspection at 200 North 5th Street, Garland, Texas.
City of Grand Prairie, Dallas County, Texas:
Maps are available for inspection at the City Development Center, 206 West Church Street, Grand Prairie, Texas.
City of Mesquite, Dallas County, Texas:
Maps are available for inspection at 320 East Jefferson Boulevard, Dallas, Texas.
Town of Sunnyvale, Dallas County, Texas:
Maps are available for inspection at 537 Long Creek Road, Sunnyvale, Texas.

(Catalog of Federal Domestic Assistance No. 83.100, “Flood Insurance.”)
Dated: March 25, 2005.
David I. Maurstad,
Acting Director, Mitigation Division, Emergency Preparedness and Response Directorate.

[FR Doc. 05-6434 Filed 3-31-05; 8:45 am]

BILLING CODE 9110-12-P